DEPARTMENT OF COMMERCE

International Trade Administration

[C-570-980]

Crystalline Silicon Photovoltaic Cells, Whether or Not Assembled Into Modules, From the People's Republic of China: Final Results and Partial Rescission of Countervailing Duty Administrative Review; 2019 and Notice of Amended Final Results of Countervailing Duty Review, 2019; Corrections

AGENCY: Enforcement and Compliance, International Trade Administration, Department of Commerce.

ACTION: Notice; corrections.

SUMMARY: The U.S. Department of Commerce (Commerce) published a notice in the Federal Register on July 7, 2022, in which Commerce announced the final results, and partial rescission, of the 2019 administrative review of the countervailing duty (CVD) order on crystalline silicon photovoltaic cells, whether or not assembled into modules, (solar cells) from the People's Republic of China (China). This notice inadvertently included two companies in Appendix III, which is a list of companies for which Commerce rescinded the review, instead of listing them in Appendix II, which is a list of “Non-Selected Companies Under Review.” We also incorrectly titled Appendix III “Intent to Rescind Review, In Part,” instead of “Rescission of Review, In Part.” Further, Commerce also published a notice in the Federal Register of August 15, 2022, in which Commerce amended the final results of the administrative review. In this notice, Commerce also inadvertently did not list the same two companies as “Non-Selected Companies Under Review” in the appendix. We are correcting these inadvertent errors with this notice, as described below.

FOR FURTHER INFORMATION CONTACT: Robert Copyak, AD/CVD Operations, Office VII, Enforcement and Compliance, International Trade Administration, U.S. Department of Commerce, 1401 Constitution Avenue NW, Washington, DC 20230; telephone: (202) 482-3642.

SUPPLEMENTARY INFORMATION:

Corrections

In the Federal Register of July 7, 2022, in FR Doc 2022-14420, on page 40493 in the third column and on 40494 in the first column, correct Appendix III to: (1) change the title to “Rescission of Review, In Part”; and (2) exclude “26. LERRI Solar Technology Co., Ltd.” and “47. Zhejiang Jinko Solar Co., Ltd.” by replacing Appendix III with the attached version. On page 40493 in the third column, correct Appendix II to include “LERRI Solar Technology Co., Ltd.” and “Zhejiang Jinko Solar Co., Ltd.” by replacing Appendix II with the attached version.

In addition, in the Federal Register of August 15, 2022, in FR Doc 2022-17470, on page 50071 in the first column, correct the appendix to include “LERRI Solar Technology Co., Ltd.” and “Zhejiang Jinko Solar Co., Ltd.” by replacing the appendix with the attached version.

Background

On July 7, 2022, Commerce published in the Federal Register the final results of the 2019 administrative review of the CVD order on solar cells from China.¹ We incorrectly titled Appendix III “Intent to Rescind Review, In Part” instead of “Rescission of Review, In Part.” We also incorrectly included “26. LERRI Solar Technology Co., Ltd.” and “47. Zhejiang Jinko Solar Co., Ltd.” The corrected Appendix III, which includes the correct title and does not include these two companies, is attached to this notice. These two companies should have been listed in Appendix II, which is the list of non-selected companies under review. The corrected Appendix II, which includes these two companies, is attached to this notice.

¹ See Crystalline Silicon Photovoltaic Cells, Whether or Not Assembled into Modules, from the People's Republic of China: Final Results and Partial Rescission of Countervailing Duty Administrative Review; 2019, 87 FR 40491 (July 7, 2022), and accompanying Issues and Decision Memorandum.

On August 15, 2022, Commerce published in the Federal Register the amended final results of the 2019 administrative review of the CVD order on solar cells from China.² In the appendix, we incorrectly did not include “LERRI Solar Technology Co., Ltd.” and “Zhejiang Jinko Solar Co., Ltd.” The corrected appendix, which includes these two companies, is attached to this notice.

² See Crystalline Silicon Photovoltaic Cells, Whether or Not Assembled into Modules, from the People's Republic of China: Notice of Amended Final Results Countervailing Duty Administrative Review; 2019, 87 FR 50069 (August 15, 2022).

Notification to Interested Parties

This notice is issued and published in accordance with sections 751(a)(l), 751(a)(2)(B), and 777(i) of the Tariff Act of 1930, as amended.

Dated: September 6, 2022.
Lisa W. Wang,
Assistant Secretary for Enforcement and Compliance.

Appendix

Non-Selected Companies Under Review

1. Canadian Solar International Limited

2. Canadian Solar Manufacturing (Changshu) Inc.

3. Canadian Solar Manufacturing (Luoyang) Inc.

4. Chint Solar (Zhejiang) Co., Ltd.

5. CSI Cells Co., Ltd.

6. CSI-GCL Solar Manufacturing (Yancheng) Co., Ltd.

7. Hengdian Group DMEGC Magnetics Co., Ltd.

8. Jinko Solar Co., Ltd.

9. Jinko Solar Import and Export Co., Ltd.

10. LONGi Solar Technology Co., Ltd.

11. Suntech Power Co., Ltd.

12. Yingli Energy (China) Co., Ltd.

13. LERRI Solar Technology Co., Ltd.

14. Zhejiang Jinko Solar Co., Ltd.

Appendix II

Non-Selected Companies Under Review

1. Canadian Solar International Limited

2. Canadian Solar Manufacturing (Changshu) Inc.

3. Canadian Solar Manufacturing (Luoyang) Inc.

4. Chint Solar (Zhejiang) Co., Ltd.

5. CSI Cells Co., Ltd.

6. CSI-GCL Solar Manufacturing (Yancheng) Co., Ltd.

7. Hengdian Group DMEGC Magnetics Co., Ltd.

8. Jinko Solar Co., Ltd.

9. Jinko Solar Import and Export Co., Ltd.

10. LONGi Solar Technology Co., Ltd.

11. Suntech Power Co., Ltd.

12. Yingli Energy (China) Co., Ltd.

13. LERRI Solar Technology Co., Ltd.

14. Zhejiang Jinko Solar Co., Ltd.

Appendix III

Rescission of Review, In Part

1. Astronergy Co., Ltd.

2. Astronergy Solar

3. Baoding Jiasheng Photovoltaic Technology Co., Ltd.

4. Baoding Tianwei Yingli New Energy Resources Co., Ltd.

5. Boviet Solar Technology Co., Ltd.

6. BYD (Shangluo) Industrial Co., Ltd.

7. Chint New Energy Technology (Haining) Co., Ltd.

8. Chint Solar (Hong Kong) Company Limited

9. Chint Solar (Jiuquan) Co., Ltd.

10. CSI Modules (Dafeng) Co., Ltd.

11. DelSolar (Wujiang) Ltd.

12. DelSolar Co., Ltd.

13. De-Tech Trading Limited HK

14. Dongguan Sunworth Solar Energy Co., Ltd.

15. Eoplly New Energy Technology Co., Ltd.

16. ERA Solar Co., Ltd.

17. ET Solar Energy Limited

18. Fuzhou Sunmodo New Energy Equipment Co., Ltd.

19. GCL System Integration Technology Co. Ltd

20. Hainan Yingli New Energy Resources Co., Ltd.

21. Hangzhou Sunny Energy Science and Technology Co., Ltd.

22. Hengshui Yingli New Energy Resources Co., Ltd.

23. Jiangsu High Hope Int'l Group

24. Jinko Solar International Limited

25. JinkoSolar Technology (Haining) Co., Ltd.

26. LightWay Green New Energy Co., Ltd.

27. Lixian Yingli New Energy Resources Co., Ltd.

28. Longi (HK) Trading Ltd.

29. Ningbo ETDZ Holdings, Ltd.

30. ReneSola Jiangsu Ltd.

31. Renesola Zhejiang Ltd.

32. Shenzhen Yingli New Energy Resources Co., Ltd.

33. Sumec Hardware & Tools Co., Ltd.

34. Sunpreme Solar Technology (Jiaxing) Co., Ltd.

35. Suntimes Technology Co., Limited

36. Systemes Versilis, Inc.

37. Taimax Technologies Inc.

38. Talesun Energy

39. Talesun Solar

40. tenKsolar (Shanghai) Co., Ltd.

41. Tianjin Yingli New Energy Resources Co., Ltd.

42. Tianneng Yingli New Energy Resources Co., Ltd.

43. Toenergy Technology Hangzhou Co., Ltd.

44. Yingli Green Energy International Trading Company Limited

45. Zhejiang ERA Solar Technology Co., Ltd.

46. Zhejiang Sunflower Light Energy Science & Technology Limited Liability Company

47. Trina Solar Co., Ltd. (formerly Changzhou Trina Solar Energy Co., Ltd.) ³

³ During the administrative review, this company was imprecisely referenced as Trina Solar Energy Co. Ltd. See Trina Solar's Letter, “Letter in Lieu of Case Brief,” dated May 16, 2022.

48. Changzhou Trina Solar Yabang Energy Co., Ltd.

49. Trina Solar (Changzhou) Science and Technology Co., Ltd.

50. Turpan Trina Solar Energy Co., Ltd.

51. Hubei Trina Solar Energy Co., Ltd.

52. Yancheng Trina Solar Energy Technology Co., Ltd.

[FR Doc. 2022-19628 Filed 9-9-22; 8:45 am]

BILLING CODE 3510-DS-P